DEPARTMENT OF LABOR

Employment and Training Administration

[TA-W-57,939]

CMOR Manufacturing, Inc., Rocklin, CA; Notice of Termination of Investigation

Pursuant to Section 221 of the Trade Act of 1974, an investigation was initiated on September 12, 2005 in response to a worker petition which was filed by the California ESS on behalf of workers at CMOR Manufacturing, Rocklin, California.

The Department has been unable to locate company officials of the subject firm or to obtain the information necessary to reach a determination on worker group eligibility.

Consequently, further investigation in this case would serve no purpose and the investigation has been terminated.

Signed in Washington, DC, this 26th day of September 2005.
Richard Church,
Certifying Officer, Division of Trade Adjustment Assistance.

[FR Doc. E5-6007 Filed 10-28-05; 8:45 am]

BILLING CODE 4510-30-P